DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of January 31, 2011 through February 4, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
74,157 | Home Fashions International, LLC | Taylorsville, NC | May 22, 2009.
74,764 | 3 Sons Manufacturing | Hayden, ID | October 20, 2009.
74,839 | St. John Knits, Inc. | Irvine, CA | November 3, 2009.
74,849 | ILevel By Weyerhaeuser, Residential Sales, Teleworkers Across Washington, etc | Federal Way, Spokane and Tacoma, WA | October 24, 2009.
74,849A | ILevel By Weyerhaeuser, Residential Sales, Teleworkers Across Alabama | All Locations Across Alabama, AL | October 24, 2009.
74,849AA | ILevel By Weyerhaeuser, Residential Sales, Teleworkers Across Oklahoma | All Locations Across Oklahoma, OK | October 24, 2009.
74,849B | ILevel By Weyerhaeuser, Residential Sales, Workers on-site in Phoenix, Arizona | Phoenix, AZ | October 24, 2009.
74,849BB | ILevel By Weyerhaeuser, Residential Sales, Teleworkers Across Oregon | Beaverton and Eugene, OR | October 24, 2009.
74,849C | ILevel By Weyerhaeuser, Residential Sales, Teleworkers Across California | Carlsbad, Fontana, Fresno, Irvine, Long Beach, etc., CA | October 24, 2009.
74,849CC | ILevel By Weyerhaeuser, Residential Sales, Teleworkers Across Pennsylvania | Easton and Murrysville, PA | October 24, 2009.
74,849D | ILevel By Weyerhaeuser, Residential Sales, Teleworkers Across Colorado | Henderson, CO | October 24, 2009.
74,849DD | ILevel By Weyerhaeuser, Residential Sales, Teleworkers Across South Carolina | All Locations Across South Carolina, SC | October 24, 2009.
74,849E | ILevel By Weyerhaeuser, Residential Sales, Teleworkers Across Connecticut | All Locations Across Connecticut, CT | October 24, 2009.
74,849EE | ILevel By Weyerhaeuser, Residential Sales, Teleworkers Across Texas | Carrollton, Houston and Selma, TX | October 24, 2009.
74,849F | ILevel By Weyerhaeuser, Residential Sales, Workers on-site in Jacksonville and Tampa | Jacksonville and Tampa, FL | October 24, 2009.
74,849FF | ILevel By Weyerhaeuser, Residential Sales, Workers on-site in Smyrna | Smyrna, TN | October 24, 2009.
74,849G | ILevel By Weyerhaeuser, Residential Sales, Teleworkers Across Georgia | Dacula and Duluth, GA | October 24, 2009.
74,849GG | ILevel By Weyerhaeuser, Residential Sales, Workers on-site in Salt Lake City, Utah | Salt Lake City, UT | October 24, 2009.
74,849H | ILevel By Weyerhaeuser, Residential Sales, Teleworkers Across Illinois | Naperville, IL | October 24, 2009.
74,849HH | ILevel By Weyerhaeuser, Residential Sales, Teleworkers Across Vermont | All Locations Across Vermont, VT | October 24, 2009.
74,849I | ILevel By Weyerhaeuser, Residential Sales, Teleworkers Across Indiana | All Locations Across Indiana, IN | October 24, 2009.
74,849II | ILevel By Weyerhaeuser, Residential Sales, Workers on-site in Richmond, Virginia | Richmond, VA | October 24, 2009.
74,849J | ILevel By Weyerhaeuser, Residential Sales, Teleworkers Across Iowa | All Locations Across Iowa, IA | October 24, 2009.
74,849JJ | ILevel By Weyerhaeuser, Residential Sales, Teleworkers Across West Virginia | All Locations Across West Virginia, WV | October 24, 2009.
74,849K | ILevel By Weyerhaeuser, Residential Sales, Teleworkers Across Kansas | Lenexa, KS | October 24, 2009.
74,849KK | ILevel By Weyerhaeuser, Residential Sales, Teleworkers Across Wisconsin | All Locations Across Wisconsin, WI | October 24, 2009.
74,849L | ILevel By Weyerhaeuser, Residential Sales, Teleworkers Across Louisiana | All Locations Across Louisiana, LA | October 24, 2009.
74,849M | ILevel By Weyerhaeuser, Residential Sales, Teleworkers Across Maryland | Baltimore, MD | October 24, 2009.
74,849N | ILevel By Weyerhaeuser, Residential Sales, Teleworkers Across Massachusetts | All Locations Across Massachusetts, MA | October 24, 2009.
74,849O | ILevel By Weyerhaeuser, Residential Sales, Teleworkers Across Michigan | All Locations Across Michigan, MI | October 24, 2009.
74,849P | ILevel By Weyerhaeuser, Residential Sales, Workers on-site in Edina and St. Paul | Edina and St. Paul, MN | October 24, 2009.
74,849Q | ILevel By Weyerhaeuser, Residential Sales, Teleworkers Across Mississippi | Long Beach, MS | October 24, 2009.
74,849R | ILevel By Weyerhaeuser, Residential Sales, Teleworkers Across Missouri | All Locations Across Missouri, MO | October 24, 2009.
74,849S | ILevel By Weyerhaeuser, Residential Sales, Teleworkers Across Montana | All Locations Across Montana, MT | October 24, 2009.
74,849T | ILevel By Weyerhaeuser, Residential Sales, Teleworkers Across Nebraska | Omaha, NE | October 24, 2009.
74,849U | ILevel By Weyerhaeuser, Residential Sales, Teleworkers Across New Hampshire | Bedford, NH | October 24, 2009.
74,849V | ILevel By Weyerhaeuser, Residential Sales, Teleworkers Across New Jersey | Marlton, NJ | October 24, 2009.
74,849W | ILevel By Weyerhaeuser, Residential Sales, Teleworkers Across New Mexico | Albuquerque, NM | October 24, 2009.
74,849X | ILevel By Weyerhaeuser, Residential Sales, Teleworkers Across New York | All Locations Across New York, NY | October 24, 2009.
74,849Y | ILevel By Weyerhaeuser, Residential Sales, Teleworkers Across North Carolina | Charlotte, NC | October 24, 2009.
74,849Z | ILevel By Weyerhaeuser, Residential Sales, Workers on-site in Worthington | Worthington, OH | October 24, 2009.
75,112 | Gam Manufacturing Company | Lancaster, PA | January 17, 2010.

The following certifications have been issued. The requirements of Section 222(a)(2)(B) (shift in production or services) of the Trade Act have been met.

TA-W No. | Subject firm | Location | Impact date
74,672 | Dell, Inc., Formerly Perot Systems; Insurance Solutions Operations | Lincoln, NE | September 7, 2009.
74,716 | Dell, Inc., Dell Financial Services Fraud Prevention Operations | Austin, TX | October 8, 2009.
74,944 | Kop-Flex, Inc., Subsidiary of Emerson Power Transmission | Hanover, MD | November 1, 2009.
74,971 | Seton Company, Johnson Controls, Inc. | Saxton, PA | December 6, 2009.
74,989 | J. M. Smucker Company, The Folgers Coffee Company | Sherman, TX | December 13, 2009.
75,015 | Optima, Inc., Subsidiary of Washi Beam Company, Ltd | Stratford, CT | December 17, 2009.
75,022 | Carole Hochman Design Group, Inc., Charles Komar & Sons, Inc.; Leased Workers from Spherion | Williamsport, PA | December 17, 2009.
75,047 | JPMorgan Chase and Company, Retail Financial Services, Production Assurance Center | Columbus, OH | December 27, 2009.
75,056 | Ericsson Services, Inc., Ericsson, Inc., Service Assurance, Deployment, IS/IT | Overland Park, KS | December 29, 2009.
75,120 | Steelcase Inc., North America Division, Leased Workers of Manpower, Inc | Grand Prairie, TX | January 18, 2010.
75,120A | Steelcase Inc., North America Division, Manpower, Inc. | Grand Rapids, MI | January 18, 2010.
75,122 | Imation Corporation, Research and Development and Engineering, Pilot Plant | Oakdale, MN | January 18, 2010.

The following certifications have been issued. The requirements of Section 222(c) (supplier to a firm whose workers are certified eligible to apply for TAA) of the Trade Act have been met.

TA-W No. | Subject firm | Location | Impact date
74,224 | DRS Mobile Environmental Systems Company, DRS Technologies, Inc.; Leased Workers Express Employment Professionals, etc | Cincinnati, OH | June 10, 2009.
75,142 | Oak Creek Consolidated, Inc. | Yorktown, VA | January 25, 2010.

Negative Determinations for Worker Adjustment Assistance

In the following cases, the investigation revealed that the eligibility criteria for worker adjustment assistance have not been met for the reasons specified.

The investigation revealed that the criteria under paragraphs (a)(2)(A) (increased imports) and (a)(2)(B) (shift in production or services to a foreign country) of section 222 have not been met.

TA-W No. | Subject firm | Location | Impact date
73,842 | CCCi Workers, Employed On-Site at Bank of America | Addison, TX |
74,262 | Analogic Corporation, OEM Medical Group; Analogic Corporation Consolidated | Peabody, MA |
74,262A | Analogic Corporation, Security Imaging Systems Division; Analogic Corporation Consolidated | Peabody, MA |
74,664 | Joseph T. Ryerson and Son, Inc. | Chicago, IL |
74,708 | Caire, Inc., Biomedical Group | Plainfield, IN |
74,749 | Alorica | Manhattan, KS |
74,923 | Martinrea Heavy Stamping, Martinrea International Division | Shelbyville, KY |

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
74,843 | Sundance Spas, Inc. | Chino Hills, CA |
74,922 | Hendricks Furniture Group, Classic Moving and Storage | Conover, NC |

The following determinations terminating investigations were issued because the petitioning groups of workers are covered by active certifications. Consequently, further investigation in these cases would serve no purpose since the petitioning group of workers cannot be covered by more than one certification at a time.

TA-W No. | Subject firm | Location | Impact date
74,439 | Bruss North America, Inc. | Russell Springs, KY |
75,109 | DATROSE, Working on-site at International Business Machines | Endicott, NY |

I hereby certify that the aforementioned determinations were issued during the period of January 31, 2011 through February 4, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: February 9, 2011.
Elliott S. Kushner,
Certifying Officer, Office of Trade Adjustment Assistance.

[FR Doc. 2011-4091 Filed 2-23-11; 8:45 am]

BILLING CODE 4510-FN-P